ENVIRONMENTAL PROTECTION AGENCY

40 CFR Part 52

[EPA-R04-OAR-2022-0436; FRL-10401-02-R4]

Air Plan Approval; Georgia; Atlanta Area Limited Maintenance Plan for the 1997 8-Hour Ozone NAAQS

AGENCY: Environmental Protection Agency (EPA).

ACTION: Final rule.

SUMMARY: The Environmental Protection Agency (EPA) is finalizing approval of a state implementation plan (SIP) revision submitted by the State of Georgia, through the Georgia Environmental Protection Division (EPD), on December 17, 2021. The SIP revision includes the 1997 8-hour ozone National Ambient Air Quality Standards (NAAQS) Limited Maintenance Plan (LMP) for the Atlanta, Georgia Area (hereinafter referred to as the Atlanta Area or Area). The Atlanta Area consists of 20 counties in Georgia: Barrow, Bartow, Carroll, Cherokee, Clayton, Cobb, Coweta, DeKalb, Douglas, Fayette, Forsyth, Fulton, Gwinnett, Hall, Henry, Newton, Paulding, Rockdale, Spalding and Walton Counties. EPA is approving Georgia's LMP for the Atlanta Area because it provides for maintenance of the 1997 8-hour ozone NAAQS within the Area through the end of the second 10-year portion of the maintenance period. The effect of this action makes certain commitments related to maintenance of the 1997 8-hour ozone NAAQS in the Area federally enforceable as part of the Georgia SIP.

DATES: This rule is effective March 9, 2023.

ADDRESSES: EPA has established a docket for this action under Docket Identification No. EPA-R04-OAR-2022-0436. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Sarah LaRocca, Air Regulatory Management Section, Air Planning and Implementation Branch, Air and Radiation Division, U.S. Environmental Protection Agency, Region 4, 61 Forsyth Street SW, Atlanta, Georgia 30303-8960. The telephone number is (404) 562-8994. Ms. LaRocca can also be reached via electronic mail at larocca.sarah@epa.gov.

SUPPLEMENTARY INFORMATION:

I. Background

On April 30, 2004, the Atlanta Area was designated as nonattainment for the 1997 8-hour ozone NAAQS, effective June 15, 2004. See 69 FR 23858 (April 30, 2004). In 2013, the Atlanta Area was redesignated to attainment for the 1997 8-hour ozone NAAQS with EPA's approval of the first maintenance plan demonstrating attainment through the initial 10-year maintenance period. See 78 FR 72040 (December 2, 2013).

In a notice of proposed rulemaking (NPRM), published on November 28, 2022 (87 FR 72946), EPA proposed to approve the Atlanta Area LMP because the State made a showing, consistent with EPA's prior LMP guidance, that the Area's ozone concentrations are well below the 1997 8-hour ozone NAAQS, have been historically stable, and that it has met all other maintenance plan requirements. The Atlanta Area LMP is designed to maintain the 1997 8-hour ozone NAAQS within the Atlanta Area through the end of the second 10-year portion of the maintenance period beyond redesignation. As a general matter, the Atlanta Area LMP relies on the same control measures and contingency provisions to maintain the 1997 8-hour ozone NAAQS during the second 10-year portion of the maintenance period as the maintenance plan submitted by Georgia EPD for the first 10-year period. The details of Georgia's submission, as well as EPA's rationale for approval, are explained further in the November 28, 2022, NPRM.

EPA is finalizing approval of Georgia's December 17, 2021, LMP because it meets all applicable requirements under CAA sections 110 and 175A. Comments on the November 28, 2022, NPRM were due on or before December 28, 2022. EPA received comments on the November 28, 2022, NPRM, which are discussed below.

II. Response to Comments

EPA received one set of comments in response to the November 28, 2022, NRPM. This set of comments, submitted by a member of the general public, consists of several statements associated with website hyperlinks. It is unclear how these comments are relevant to the proposal, how the hyperlinked materials support the comments, and how, or whether, the commenter would like EPA to change the proposal. Furthermore, as noted in the November 28, 2022, NRPM, EPA generally will not consider comment contents located outside of the primary submission (i.e., on the web, cloud, or other file-sharing system) such as the hyperlinked materials. For these reasons, the comments require no further response, and we are finalizing the action as proposed.

III. Final Action

In accordance with sections 110(k) and 175A of the CAA, and for the reasons set forth in the November 28, 2022, NPRM, EPA is finalizing the Atlanta Area LMP for the 1997 8-hour ozone NAAQS, as submitted by Georgia EPA on December 17, 2021. EPA is finalizing the approval of the Atlanta Area LMP because it includes an acceptable update of various elements of the 1997 8-hour ozone NAAQS maintenance plan approved by EPA for the first 10-year period (including emissions inventory, assurance of adequate monitoring and verification of continued attainment, and contingency provisions) and retains the relevant provisions of the SIP.

EPA also finds that the Atlanta Area qualifies for the LMP option and that the Atlanta Area LMP is sufficient to provide for maintenance of the 1997 8-hour ozone NAAQS in the Area over the second 10-year maintenance period, ending on January 2, 2034.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely approves state law as meeting Federal requirements and do not impose additional requirements beyond those imposed by state law. For that reason, this action:

• Is not a significant regulatory action subject to review by the Office of Management and Budget under Executive Orders 12866 (58 FR 51735, October 4, 1993) and 13563 (76 FR 3821, January 21, 2011);

• Does not impose information collection burdens under the provisions of the Paperwork Reduction Act (44 U.S.C. 3501 et seq.);

• Is certified as not having significant economic impacts on a substantial number of small entities under the Regulatory Flexibility Act (5 U.S.C. 601 et seq.);

• Does not contain any unfunded mandates or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

This SIP revision is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 10, 2023. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Incorporation by reference, Intergovernmental relations, Nitrogen oxides, Ozone, Reporting and recordkeeping requirements, Volatile organic compounds.

Dated: January 31, 2023.
Daniel Blackman,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart L—Georgia

2. In § 52.570(e), amend the table “EPA-Approved Georgia Non-Regulatory Provisions” by adding an entry for “1997 8-hour Ozone Maintenance Plan for the Atlanta Area” at the end of the table to read as follows:

§ 52.570 Identification of plan.

* * * * *

(e) * * *

EPA-Approved Georgia Non-Regulatory Provisions
Name of nonregulatory SIP provision | Applicable geographic or nonattainment area | State submittal/ effective date | EPA approval date | Explanation
* * * * * * *
1997 8-hour Ozone 2nd Maintenance Plan (Limited Maintenance Plan) for the Atlanta Area | Barrow, Bartow, Carroll, Cherokee, Clayton, Cobb, Coweta, DeKalb, Douglas, Fayette, Forsyth, Fulton, Gwinnett, Hall, Henry, Newton, Paulding, Rockdale, Spalding, and Walton Counties | 12/17/2021 | 2/7/2023, [Insert Federal Register citation]

[FR Doc. 2023-02399 Filed 2-6-23; 8:45 am]

BILLING CODE 6560-50-P